FEDERAL COMMUNICATIONS COMMISSION

47 CFR Part 73

[MB Docket No. 21-60; RM-11844; DA 21-1038; FR ID 45283]

Television Broadcasting Services Superior and York, Nebraska

AGENCY: Federal Communications Commission.

ACTION: Final rule.

SUMMARY: On March 10, 2021, the Media Bureau, Video Division (Bureau) issued a Notice of Proposed Rulemaking (NPRM) in response to an amended rulemaking petition filed by Gray Television Licensee, LLC (Gray), the licensee of KSNB-TV, channel 4 (NBC/MyNetwork), Superior, Nebraska. Gray requested that the Commission delete channel 4 from Superior and allot it to York, Nebraska in the DTV Table of Allotments and substitute channel 24 for channel 4 at York in the Table consistent with the technical parameters set forth in its Amended Petition. For the reasons set forth in the Report and Order referenced below, the Bureau amends FCC regulations to delete channel 4 from Superior and allot it to York, and then substitute channel 24 for channel 4 at York consistent with the technical parameters set forth in its amended petition.

DATES: Effective August 31, 2021.

FOR FURTHER INFORMATION CONTACT: Joyce Bernstein, Media Bureau, at (202) 418-1647 or Joyce.Bernstein@fcc.gov.

SUPPLEMENTARY INFORMATION: The proposed rule was published at 86 FR 15180 on May 21, 2021. Because Gray's proposal that the Bureau allot channel 24 to York is not mutually exclusive with its existing channel 4 allotment at Superior and would result in removal of Superior's sole local transmission outlet, the NPRM sought comment on whether to waive section 1.420(i) of the Commission's rules regarding mutual exclusivity, and the Commission's allotment policy disfavoring the removal of a community's sole first local service. Gray filed comments in support of the petition reaffirming its commitment to apply for channel 24 and filed amended comments at the Bureau's request to more fully address the waiver issues. In addition to KSNB-TV, Gray is the licensee of KOLN, Lincoln, Nebraska. KOLN's tower collapsed in 2020 and according to Gray, given the imminent failure of KSNB-TV's existing technical facility, rebuilding KSNB-TV on channel 24 at the new KOLN tower would resolve VHF-related reception issues in certain areas of KSNB-TV's current predicted service area, and save several hundred thousand dollars in construction costs.

With respect to the mutual exclusivity requirement, the Commission adopted section 1.420 to allow a television station to request a new community of license without subjecting the station to the risk of losing its license to competing applications if the change in community of license was mutually exclusive with the station's current allotment, so that the change would not deprive potential future applicants of the opportunity to apply for a new station to serve the area. Gray demonstrated that multiple channels are currently available for future allotment in the Superior/York/Lincoln, Nebraska area and, thus, because the underlying purpose of the rule would not be frustrated by changing KSNB-TV's community of license without allowing competing expressions of interest, the Bureau waived this requirement of section 1.420 of the rules. The Bureau also waived the Commission's policy disfavoring the removal of a sole local service allotted to a community. York is significantly larger than Superior, and grant of a waiver to allow KSNB-TV to collocate with KOLN would result in the provision of first, second, and third television service to a substantial number of persons. Moreover, other important public interest benefits would accrue by permitting KSNB-TV to change its channel and community, and collocate with KOLN, including operational and economic efficiencies and resolving low VHF reception problems for KSNB-TV. There are also a number of channels that may be allotted to Superior if an interested party wishes to pursue acquiring a construction permit for a new station in the area. In addition, Superior would receive improved service from KSNB-TV's operation on channel 24 on the KOLN tower.

This is a synopsis of the Commission's Report and Order, MB Docket No. 21-60; RM-11884; DA 21-1038, adopted August 23, 2021, and released August 24, 2021. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622, in paragraph (i), amend the Post-Transition Table of DTV Allotments, under Nebraska, by removing the entry for “Superior” and adding an entry for “York” in alphabetical order.

The additions reads as follows:

§ 73.622 Digital television table of allotments.

* * * * *

(i) * * *

Community | Channel No.
* * * * *
NEBRASKA
* * * * *
York | 24
* * * * *

[FR Doc. 2021-18783 Filed 8-30-21; 8:45 am]

BILLING CODE 6712-01-P